DEPARTMENT OF THE INTERIOR

National Park Service

[NPS-WASO-NAGPRA-NPS0024662; PPWOCRADN0-PCU00RP14.R50000]

Notice of Inventory Completion: Robert S. Peabody Museum of Archaeology, Andover, MA; Correction

AGENCY: National Park Service, Interior.

ACTION: Notice; correction.

SUMMARY: The Robert S. Peabody Museum of Archaeology has corrected an inventory of associated funerary objects, published in a Notice of Inventory Completion in the Federal Register on September 22, 2017. This notice corrects the number of associated funerary objects. Lineal descendants or representatives of any Indian Tribe or Native Hawaiian organization not identified in this notice that wish to request transfer of control of these associated funerary objects should submit a written request to the Robert S. Peabody Museum of Archaeology. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Robert S. Peabody Museum of Archaeology at the address in this notice by March 1, 2018.

ADDRESSES: Ryan Wheeler, Robert S. Peabody Museum of Archaeology, 180 Main Street, Andover, MA 01810, telephone (978) 749-4490, email rwheeler@andover.edu.

SUPPLEMENTARY INFORMATION: Notice is here given in accordance with the Native American Graves Protection and Repatriation Act (NAGPRA), 25 U.S.C. 3003, of the correction of an inventory of associated funerary objects under the control of the Robert S. Peabody Museum of Archaeology. The associated funerary objects were removed from the Mansion Inn site, Wayland, Middlesex County, MA.

This notice is published as part of the National Park Service's administrative responsibilities under NAGPRA, 25 U.S.C. 3003(d)(3). The determinations in this notice are the sole responsibility of the museum, institution, or Federal agency that has control of the Native American associated funerary objects. The National Park Service is not responsible for the determinations in this notice.

This notice corrects the number of associated funerary objects published in a Notice of Inventory Completion in the Federal Register (82 FR 44460-44461, September 22, 2017). During preparation of a receipt for repatriation, it was determined that cataloging errors had been made in compiling the original inventory, largely due to objects with duplicative catalog numbers, objects with no catalog numbers, and discrepancies between catalog cards and objects. Transfer of control of the items in this correction notice has not occurred.

Correction

In the Federal Register (82 FR 44461, September 22, 2017), column 2, full paragraph 1, sentence 7, under the heading “History and Description of the Remains,” is corrected by substituting the following sentence:

The 178 associated funerary objects are 4 adze fragments; 1 axe fragment; 40 bifaces and biface fragments; 22 flakes/debitage; 1 lot flakes/debitage; 1 lot calcined bone fragments; 1 lot charcoal; 1 charred nut fragment; 1 hammerstone; 21 worked and unworked pebbles and pebble fragments; 23 stone tool fragments; and 62 stone fragments.

In the Federal Register (82 FR 44461, September 22, 2017), column 2, full paragraph 4, sentence 1, under the heading “Determinations Made by the Robert S. Peabody Museum of Archaeology,” is corrected by replacing the number “188” with the number “178.”

Additional Requestors and Disposition

Lineal descendants or representatives of any Indian Tribe or Native Hawaiian organization not identified in this notice that wish to request transfer of control of these associated funerary objects should submit a written request with information in support of the request to Ryan Wheeler, Robert S. Peabody Museum of Archaeology, 180 Main Street, Andover MA 01810, telephone (978) 749-4490, email rwheeler@andover.edu, by March 1, 2018. After that date, if no additional requestors have come forward, transfer of control of the associated funerary objects to Wampanoag Repatriation Confederation, representing the Mashpee Wampanoag Indian Tribe (previously listed as the Mashpee Wampanoag Indian Tribal Council, Inc.) and the Wampanoag Tribe of Gay Head (Aquinnah), and, if joined to one or more of the culturally affiliated Tribes, the Assonet Band of the Wampanoag Nation and Nipmuc Nation, which are non-federally recognized Indian groups, may proceed.

The Robert S. Peabody Museum of Archaeology is responsible for notifying the Wampanoag Repatriation Confederation, representing the Mashpee Wampanoag Indian Tribe (previously listed as the Mashpee Wampanoag Indian Tribal Council, Inc.) and the Wampanoag Tribe of Gay Head (Aquinnah), and, if joined to one or more of the culturally affiliated Tribes, the Assonet Band of the Wampanoag Nation and Nipmuc Nation, which are non-federally recognized Indian groups, that this notice has been published.

Dated: November 15, 2017.
Sarah Glass,
Acting Manager, National NAGPRA Program.

[FR Doc. 2018-01726 Filed 1-29-18; 8:45 am]

BILLING CODE 4312-52-P